DEPARTMENT OF THE INTERIOR

Bureau of Ocean Energy Management

[Docket No. BOEM-2024-0030]

Notice of Availability of a Final Environmental Assessment for Commercial Wind Lease Issuance, Site Characterization Activities, and Site Assessment Activities on the Atlantic Outer Continental Shelf in the Gulf of Maine Offshore the States of Maine and New Hampshire and the Commonwealth of Massachusetts

AGENCY: Bureau of Ocean Energy Management, Interior

ACTION: Notice of availability.

SUMMARY: The Bureau of Ocean Energy Management (BOEM) announces the availability of the final environmental assessment (EA) and its finding that possible wind energy-related leasing, site assessment, and site characterization activities on the U.S. Atlantic Outer Continental Shelf (OCS) (the Proposed Action) will not significantly impact the human environment. The draft EA analyzes the potential impacts of the Proposed Action and a No Action Alternative. The EA will inform BOEM's decision about whether it will issue commercial wind energy leases in the Gulf of Maine offshore the States of Maine and New Hampshire and the Commonwealth of Massachusetts and its subsequent review of site assessment plans in the lease areas.

ADDRESSES: The final EA and detailed information about proposed commercial leases can be found on BOEM's website at: https://www.boem.gov/renewable-energy/state-activities/maine/gulf-maine.

FOR FURTHER INFORMATION CONTACT: Brandi Sangunett, BOEM, Environment Branch for Renewable Energy, 45600 Woodland Road, Mail Stop VAM-OREP, Sterling, VA 20166, (703) 787-1015 or brandi.sangunett@boem.gov.

SUPPLEMENTARY INFORMATION:

Proposed Action: The final EA analyzes the Proposed Action, which is to issue commercial wind energy leases in the Gulf of Maine wind energy area (WEA) and grant rights-of-way (ROWs) and rights-of-use and easement (RUEs). A BOEM-issued lease provides lessees the exclusive right to submit plans to BOEM for possible approval. The EA considers the reasonably foreseeable environmental consequences associated with site characterization activities (geophysical, geotechnical, archaeological, and biological surveys) and site assessment activities (including the installation and operation of meteorological buoys). BOEM prepared an EA for this proposed action to inform its planning and decision-making (40 CFR 1501.5(b)).

Alternative: In addition to the Proposed Action, BOEM considered a No Action Alternative. Under the No Action Alternative, BOEM would neither issue commercial wind energy leases nor grant ROWs and RUEs in the Gulf of Maine WEA. BOEM's preferred alternative is the Proposed Action.

Finding of no significant impact: After carefully considering the alternatives and comments from the public and cooperating and consulting agencies on the draft EA, BOEM finds that issuing commercial wind energy leases and granting ROWs and RUEs in the Gulf of Maine WEA would not significantly impact the environment.

Availability of the final EA: The final EA and associated information are available on BOEM's website at: https://www.boem.gov/renewable-energy/state-activities/maine/gulf-maine.

Authority: 42 U.S.C. 4231 et seq. (NEPA, as amended) and 40 CFR 1506.6.

Karen Baker,
Chief, Office of Renewable Energy Programs, Bureau of Ocean Energy Management.

[FR Doc. 2024-20225 Filed 9-6-24; 8:45 am]

BILLING CODE 4340-98-P